DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 15, 2009.

Interested persons are invited to submit written comments regarding the subject matter of the investigations to the Director, Division of Trade Adjustment Assistance, at the address shown below, not later than October 15, 2009.

The petitions filed in this case are available for inspection at the Division of Trade Adjustment Assistance, Employment and Training Administration, U.S. Department of Labor, Room N-5428, 200 Constitution Avenue, NW., Washington, DC 20210.

Signed at Washington, DC, this 9th day of September 2009.
Richard Church,
Certifying Officer, Division of Trade Adjustment Assistance.

Appendix
[TAA petitions instituted between 8/24/09 and 8/28/09]
TA-W | Subject firm (petitioners) | Location | Date of institution | Date of petition
72102 | E.R. Wagner Manufacturing Company, Casters and Wheels Division (Comp) | Hustisford, WI | 08/24/09 | 08/21/09
72103 | Terex, LLC (State) | Cedar Rapids, IA | 08/24/09 | 08/21/09
72104 | Smithfield (Wkrs) | Elon College, NC | 08/24/09 | 08/20/09
72105 | Oclars, Inc. (Wkrs) | Tuscon, AZ | 08/24/09 | 08/21/09
72106 | Sinteite Furnace Division/Gasbarre Products, Inc. (Wkrs) | St. Mary's, PA | 08/24/09 | 08/15/09
72107 | Kuka Assembly and Test Corp. (Wkrs) | Fenton, MI | 08/25/09 | 08/18/09
72108 | Crown Group (Wkrs) | Port Huron, MI | 08/25/09 | 08/24/09
72109 | Tyco Electronics Corporation, Global Application Tooling Division (Comp) | Mount Sidney, VA | 08/25/09 | 08/24/09
72110 | JR Engineering (Wkrs) | Barberton, OH | 08/25/09 | 08/22/09
72111 | Fuzion Technologies, Inc. (Comp) | Adrian, PA | 08/25/09 | 07/29/09
72112 | Micro Motion Inc. (Wkrs) | Boulder, CO | 08/25/09 | 07/17/09
72113 | Imerys Clays (Wkrs) | Sandersville, GA | 08/25/09 | 08/25/09
72114 | Furniture Brands—Thomasville P #9 (Wkrs) | Hickory, NC | 08/25/09 | 08/12/09
72115 | Emerson Climate Technologies (Comp) | St. Louis, MO | 08/25/09 | 08/18/09
72116 | RCO Engineering, Inc. (Comp) | Roseville, MI | 08/25/09 | 08/25/09
72117 | Manitowoc Cranes (Union) | Manitowoc, WI | 08/25/09 | 08/24/09
72118 | Whitey's Inc. (Comp) | Mansfield, OH | 08/25/09 | 08/24/09
72119 | CTC/Ford Motor Company (Wkrs) | Dearborn, MI | 08/25/09 | 08/24/09
72120 | Vanguard Furniture (Wkrs) | Conover, NC | 08/25/09 | 08/14/09
72121 | General Motors (Wkrs) | Warren, MI | 08/25/09 | 08/14/09
72122 | The Dial Company (Wkrs) | St. Louis, MO | 08/25/09 | 08/07/09
72123 | MKS (Wkrs) | Rochester, NY | 08/25/09 | 08/01/09
72124 | Joy Ranch, Inc. (Comp) | Woodlawn, VA | 08/25/09 | 08/10/09
72125 | Manitowoc Crane Group (Union) | Port Washington, WI | 08/26/09 | 08/25/09
72126 | Medtronic (Wkrs) | Tempe, AZ | 08/26/09 | 08/24/09
72127 | Wintersleiger, Inc. (Comp) | Colwich, KS | 08/26/09 | 08/25/09
72128 | Samsung Austin Semiconductor (Comp) | Austin, TX | 08/26/09 | 08/26/09
72129 | Hampton Lumber Mills-Washington, Inc. (Comp) | Morton, WA | 08/26/09 | 08/25/09
72130 | Sanoh-America, Inc. (Wkrs) | Findlay, OH | 08/26/09 | 08/21/09
72131 | Phillips Van Heusen Corp. (Wkrs) | Schuylkui haven, PA | 08/26/09 | 08/25/09
72132 | Plastic Engineering (State) | Sheboygan, WI | 08/26/09 | 08/25/09
72133 | North American Pulp Molding (State) | Haynesville, LA | 08/26/09 | 08/25/09
72134 | General Electric (Wkrs) | Winchester, VA | 08/26/09 | 08/19/09
72135 | IACNA (Wkrs) | Strasburg, VA | 08/26/09 | 08/13/09
72136 | EME Corporation (Comp) | Burkesville, KY | 08/26/09 | 08/25/09
72137 | DHL Express (Union) | Romulus, MI | 08/26/09 | 08/24/09
72138 | Manitowoc Ice (Union) | Manitowoc, WI | 08/26/09 | 08/24/09
72139 | EDS, an HP COmpany (Comp) | Auburn Hills, MI | 08/27/09 | 08/26/09
72140 | Par SpringerMiller Systems (Wkrs) | Stowe, VT | 08/27/09 | 08/18/09
72141 | CR Laine Furniture Company (Wkrs) | Newton, NC | 08/27/09 | 08/20/09
72142 | Drake Manufacturing Services Co. (Comp) | Warren, OH | 08/27/09 | 08/26/09
72143 | Parker Hannifio Hydrolic Cartridge Systems Division (Comp) | Chanhassen, MN | 08/27/09 | 08/26/09
72144 | Cummins Filtration (State) | Lake Mills, IA | 08/27/09 | 08/26/09
72145 | HSBC Beneficial (State) | Dubois, PA | 08/27/09 | 08/26/09
72146 | Dassault Systems Americas Corp. (Comp) | Woodland Hills, CA | 08/27/09 | 08/25/09
72147 | Vantec, Inc (State) | Webster City, IA | 08/27/09 | 08/26/09
72148 | Spansion (Wkrs) | Sunnyvale, CA | 08/27/09 | 08/26/09
72149 | Knight Celotex (Wkrs) | Lisbon Falls, ME | 08/27/09 | 08/22/09
72150 | DAO Operations Manufacturing (Wkrs) | Round Rock, TX | 08/28/09 | 08/24/09
72151 | UPF, Inc. (Comp) | Flint, MI | 08/28/09 | 08/27/09
72152 | Marvel (Union) | Richmond, IN | 08/28/09 | 08/26/09
72153 | MedQuist (State) | Mount Laurel, NJ | 08/28/09 | 08/27/09
72154 | Elcam Inc. (Wkrs) | St. Marys, PA | 08/28/09 | 08/27/09
72155 | McKinney Products Company (Wkrs) | Scranton, PA | 08/28/09 | 08/27/09
72156 | Metal Technologies (Union) | West Allis, WI | 08/28/09 | 08/27/09
72157 | Risdon International Inc. (Comp) | Laconia, NH | 08/28/09 | 08/27/09
72158 | Vital Diagnostics Inc. (Comp) | Brea, CA | 08/28/09 | 08/27/09
72159 | Caterpillar (Wkrs) | Sumter, SC | 08/28/09 | 08/27/09
72160 | Rogim & Hexas/Dow Advanced Materials (Wkrs) | Philadelphia, PA | 08/28/09 | 08/27/09
72161 | Hokumo America Corporation (Wkrs) | Bardentown, KY | 08/28/09 | 08/18/09
72162 | SDE Business Partnering (Wkrs) | Troy, MI | 08/28/09 | 08/11/09

[FR Doc. E9-23914 Filed 10-2-09; 8:45 am]

BILLING CODE 4510-FN-P